ENVIRONMENTAL PROTECTION AGENCY

[EPA-HQ-OPP-2009-0639; FRL-8883-6]

2-(Hydroxymethyl)-2-nitro-1,3-propanediol (Tris Nitro); Amendments To Terminate Uses for Certain Pesticide Registrations

AGENCY: Environmental Protection Agency (EPA).

ACTION: Notice.

SUMMARY: This notice announces EPA's order for the amendments to terminate uses, voluntarily requested by the registrant and accepted by the Agency, of products containing the pesticide listed in Table 1, pursuant to section 6(f)(1) of the Federal Insecticide, Fungicide, and Rodenticide Act (FIFRA), as amended. This cancellation order follows a June 8, 2011 Federal Register Notice of Receipt of Requests from the registrant listed in Table 1 to voluntarily amend to terminate uses of these product registrations. These are not the last products containing these pesticides registered for use in the United States. In the June 8, 2011 notice, EPA indicated that it would issue an order implementing the amendments to terminate uses, unless the Agency received substantive comments within the 30-day comment period that would merit its further review of these requests, or unless the registrant withdrew their requests within this period. The Agency did not receive any comments on the notice. Further, the registrant did not withdraw their requests. Accordingly, EPA hereby issues in this notice a cancellation order granting the requested amendments to terminate uses. Any distribution, sale, or use of the products subject to this cancellation order is permitted only in accordance with the terms of this order, including any existing stocks provisions.

DATES: The cancellations are effective August 26, 2011.

FOR FURTHER INFORMATION CONTACT: Rebecca von dem Hagen, Antimicrobials Division (7510P), Office of Pesticide Programs, Environmental Protection Agency, 1200 Pennsylvania Ave., NW., Washington, DC 20460-0001; telephone number: (703) 305-6785; e-mail address: vondem-hagen.rebecca@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-0639. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the amendments to terminate uses, as requested by the registrant, of products registered under section 3 of FIFRA. These registrations are listed in sequence by registration number in Table 1 of this unit.

Table 1—Tris Nitro Product Registration Amendments To Terminate Uses
Registration No. | Product name | Company | Uses to be terminated
464-657 | Tris Nitro ™ Solid Industrial Bacteriostat | The Dow Chemical Company | Use in metalworking fluids; Latex paints; Resin/latex/polymer emulsions; Specialty industrial products.
464-658 | Tris Nitro ™ Brand of 50% AqueousTris (hydroxymethyl) nitromethane | The Dow Chemical Company | Use in metalworking fluids; Latex paints; Resin/latex/polymer emulsions; Specialty industrial products.
464-663 | Tris Nitro™ Brand of 50% Aqueous Tris (hydroxymethyl) nitromethane | The Dow Chemical Company | Use in paints, emulsions and thickener solutions; Use in metalworking fluids; Use as a preservative for packaged emulsions, solutions, or suspensions, such as detergents and polishes containing water.
464-668 | Tris Nitro™ Brand of 25% Aqueous Tris (hydroxymethyl) nitromethane | The Dow Chemical Company | Use in metalworking fluids; Use as a preservative for packaged emulsions, solutions, or suspensions, such as detergents and polishes containing water.
464-679 | Tris Nitro™ Brand | The Dow Chemical Company | Use in paints, emulsions, and thickener solutions; Use in metalworking fluids; Use as a preservative for packaged emulsions, solutions, or suspensions, such as detergents and polishes containing water; Use in pulp and paper-mill process water systems.

Table 2 of this unit includes the name and address of record for the registrant of the products in Table 1 of this unit, in sequence by EPA company number.

Table 2—Registrant of Amended Products
EPA company No. | Company name and address
464 | The Dow Chemical Company,
| 1803 Building,
| Midland, MI 48674.

III. Summary of Public Comments Received and Agency Response to Comments

During the public comment period provided, EPA received no comments in response to the June 8, 2011 Federal Register notice (76 FR 33281) (FRL-8874-5) announcing the Agency's receipt of the requests for voluntary amendments to terminate uses of products listed in Table 1.

IV. Cancellation Order

Pursuant to FIFRA section 6(f), EPA hereby approves the requested amendments to terminate uses of Tris Nitro registrations identified in Table 1 of Unit II. Accordingly, the Agency orders that the product registrations identified in Table 1 of Unit II. are hereby amended to terminate the affected uses. Any distribution, sale, or use of existing stocks of the products identified in Table 1 of Unit II. in a manner inconsistent with any of the Provisions for Disposition of Existing Stocks set forth in Unit VI. will be considered a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

EPA's existing stocks policy that published in the Federal Register June 26, 1991 (56 FR 29362) (FRL-3845-4) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action. The effective date of this cancellation is August 26, 2011. The cancellation order that is the subject of this notice includes the following existing stock provisions:

The registrant may sell and distribute existing stocks of products listed in Table 1 until August 27, 2012. Persons other than the registrant may sell and distribute existing stocks of products listed in Table 1 until exhausted. Use of the products listed in Table 1 may continue until existing stocks are exhausted, provided that such use is consistent with the terms of the previously approved labeling on, or that accompanied, the amended products.

List of Subjects

Environmental protection, Pesticides and pests, Antimicrobials, 2-(hydroxymethyl)-2-nitro-1,3-propanediol, Tris Nitro.

Dated: August 17, 2011.
Joan Harrigan-Farrelly,
Director, Antimicrobials Division, Office of Pesticide Programs.

[FR Doc. 2011-21729 Filed 8-25-11; 8:45 am]

BILLING CODE 6560-50-P